DEPARTMENT OF DEFENSE

Office of the Secretary

Renewal of Department of Defense Federal Advisory Committees

AGENCY: Department of Defense.

ACTION: Renewal of Federal Advisory Committee.

SUMMARY: Under the provisions of 10 U.S.C. 1781a, as amended, the Federal Advisory Committee Act of 1972 (5 U.S.C. Appendix), the Government in the Sunshine Act of 1976 (5 U.S.C. 552b) (“the Sunshine Act), and 41 CFR 102-3.50(a), the Department of Defense (DoD) gives notice that it is renewing the charter for the Department of Defense Military Family Readiness Council (“the Council”).

The Council is a non-discretionary federal advisory committee that shall review and make recommendations to the Secretary of Defense regarding the policy and plans required under 10 U.S.C. 1781b, monitor requirements for the support of military families readiness by the DoD, and evaluate and assess the effectiveness of the military family readiness programs and activities of the DoD.

The Council, no later than February 1 of each year, shall submit a report on military family readiness. Each report, at a minimum shall include the following: (a) An assessment of the adequacy and effectiveness of the military family readiness programs and activities of the DoD during the preceding fiscal year in meeting the needs and requirements of military families; and (b) Recommendations on actions to be taken to improve the capability of the military family readiness programs and activities of the DoD to meet the needs and requirements of military families, including actions relating to the allocation of funding and other resources to and among such programs and activities.

The annual report referenced above shall be submitted to the Secretary of Defense and the congressional defense committees.

The DoD, through the Office of the Under Secretary of Defense for Personnel and Readiness (USD(P&R)), shall provide support, as deemed necessary, for the Council's performance, and shall ensure compliance with the requirements of FACA, the Sunshine Act, governing Federal statutes and regulations, and established DoD policies/procedures.

The Council, pursuant to 10 U.S.C. 1781a(b), as amended, shall be composed of 18 members, appointed as specified below:

a. The USD (P&R), who shall serve as chair of the Council. The Principal Deputy Under Secretary of Defense for Personnel and Readiness, as approved by the Secretary of Defense, may, in the absence of the USD(P&R), serve as the Council's chair with all rights and privileges thereunto;

b. One representative from each of the Army, Navy, Marine Corps, and Air Force, each of whom shall be a member of the armed force to be represented;

c. The Secretary of Defense has approved the following ex officio appointments for a two-year term of service with annual renewals:

1. Army—the Assistant Chief of Staff for Installation Management;

2. Navy—the Chief of Naval Personnel;

3. Air Force—the Deputy Chief of Staff for Manpower and Personnel; and

4. Marine Corps—the Deputy Commandant for Manpower & Reserve Affairs.

d. One representative of the Army National Guard or the Air National Guard, who may be a member of the National Guard;

The Secretary of Defense, based upon the recommendation of the Chief, National Guard Bureau through the USD(P&R) shall appoint one individual to serve on the Council. If the Secretary appoints a person who is a full-time or permanent part-time federal officer or employee, then that individual shall be appointed as a regular Government member of the Council. If the Secretary appoints a person who is not a full-time or permanent part-time federal officer or employee or a member of the Army or Air National Guard, then that individual shall be appointed as an expert and consultant under the authority of 5 U.S.C. 3109 to serve as a special Government employee (SGE). Representation on the Council shall rotate between the Army National Guard and Air National Guard every two years on a calendar year basis with annual renewals.

e. One spouse or parent of a member of each of the Army, Navy, Marine Corps, and Air Force, two of whom shall be the spouse or parent of an active component member and two of whom shall be the spouse or parent of a reserve component member.

The Secretary of Defense shall appoint these individuals based upon the recommendation of the USD(P&R). Spouse or parent nominees of Regular Component members shall begin with the Army and Navy followed by the Air Force and Marine Corps. Spouse or parent nominees of Reserve Component members shall begin with the Air Force and Marine Corps followed by the Army and the Navy. A spouse or parent of a member of the Regular or Reserve Component appointed by the Secretary of Defense, unless he or she is a full-time or permanent part-time Federal officer or employee, shall be appointed to the Council as an expert and consultant under the authority of 5 U.S.C. 3109 and serve as a SGE. The term of service for these members shall be two years with annual renewals.

f. Three individuals appointed by the Secretary of Defense from among representatives of military family organizations, including military family organizations of families of members of the regular components and families of members of the reserve components.

For the period 2012-2015, the following military family organizations are invited to serve on the Council: The National Military Family Association, the American Red Cross, and the Blue Star Families. Individuals appointed by the Secretary of Defense from these three organizations who are not full-time or permanent part-time federal officers or employees shall be appointed as experts and consultants under the authority of 5 U.S.C. 3109 to serve as a SGE. The term of service shall be three years with annual renewals.

g. The senior enlisted advisors from each of the Army, Navy, Marine Corps, and Air Force, except that two of these members may instead be selected from among the spouses of the senior enlisted advisors.

The Secretary of Defense shall appoint two Senior Enlisted Advisors beginning with the Navy and Marine Corps and followed by the Army and Air Force. The Secretary of Defense shall appoint two spouses of Senior Enlisted Advisors beginning with the Army and Air Force and followed by the Navy and Marine Corps. A spouse of a Senior Enlisted Advisor of the Army, Navy, Air Force or Marine Corps appointed by the Secretary of Defense, unless he or she is a full-time or permanent part-time Federal officer or employee, shall be appointed to the Council as an expert and consultant under the authority of 5 U.S.C. 3109 and serve as a SGE. The term of service for Senior Enlisted Advisors shall be two years with annual renewals. The term of service for spouses of Senior Enlisted Advisors shall be either two years or until the conclusion of the Service member's tour of duty as Senior Enlisted Advisor during which the spouse was appointed to the Council, whichever is earlier, with annual renewals.

h. The Director of the Office of Community Support for Military Families with Special Needs (“the Director”).

The Director is appointed as a regular Government (ex officio) member of the Council. The Director may send someone to attend a Council meeting if he or she is unable to attend; however, this person shall not engage in Council deliberations, vote on matters before the Council, or count toward a quorum.

With the exception of travel and per diem for travel related to the Council, members of the Council shall serve without compensation.

The Department, when necessary, and consistent with the Council's mission and DoD policies/procedures, may establish subcommittees, task groups, and working groups to support the Council. Establishment of subcommittees will be based upon a written determination, to include terms of reference, by the Secretary of Defense, the Deputy Secretary of Defense or the USD(P&R).

Such subcommittees shall not work independently of the Council, and shall report all their recommendations and advice solely to the Council for full deliberation and discussion. Subcommittees have no authority to make decisions and recommendations, verbally or in writing, on behalf of the Council; nor can any subcommittee or its members update or report directly to the DoD or any Federal officers or employees.

The Secretary of Defense shall appoint subcommittee members even if the member in question is already a Council member. Subcommittee members, with the approval of the Secretary of Defense, may serve a term of service on the subcommittee of one-to-four years; however, no member, unless authorized by the Secretary of Defense, may serve more than two consecutive terms of service.

Subcommittee members, if not full-time or part-time Government employees, shall be appointed to serve as experts and consultants under the authority of 5 U.S.C. 3109, and shall serve as SGEs, whose appointments must be renewed by the Secretary of Defense on an annual basis. With the exception of per diem for official travel related to the Council or its subcommittees, subcommittee members shall serve without compensation.

Each subcommittee member is appointed to provide advice on behalf of the Government on the basis of his or her best judgment without representing any particular point of view and in a manner that is free from conflict of interest.

All subcommittees operate under the provisions of FACA, the Sunshine Act, governing Federal statutes and regulations, and governing DoD policies/procedures.

SUPPLEMENTARY INFORMATION: The Council shall meet at the call of the Council's Designated Federal Officer (DFO), in consultation with Council's Chairperson. The estimated number of meetings by the Council is two per year.

In addition, the DFO is required to be in attendance at all meetings of the Council and its subcommittees for the entire duration of each and every meeting. However, in the absence of the Council's DFO, a properly approved Alternate DFO, duly appointed to the Council according to DoD policies/procedures, shall attend the entire duration of meetings of the Council or subcommittees.

The DFO, or the Alternate DFO, shall call all of the Council and its subcommittees; prepare and approve all meeting agendas; and adjourn any meeting, when the DFO, or the Alternate DFO, determines adjournment to be in the public interest or required by governing regulations or DoD policies/procedures; and chair meetings when directed to do so by the USD(P&R).

Pursuant to 41 CFR 102-3.105(j) and 102-3.140, the public or interested organizations may submit written statements to Department of Defense Military Family Readiness Council membership about the Council's mission and functions. Written statements may be submitted at any time or in response to the stated agenda of planned meeting of Department of Defense Military Family Readiness Council.

All written statements shall be submitted to the Designated Federal Officer for the Department of Defense Military Family Readiness Council, and this individual will ensure that the written statements are provided to the membership for their consideration. Contact information for the Department of Defense Military Family Readiness Council's DFO can be obtained from the GSA's FACA Database— https://www.fido.gov/facadatabase/public.asp.

The DFO, pursuant to 41 CFR 102-3.150, will announce planned meetings of the Department of Defense Military Family Readiness Council. The DFO, at that time, may provide additional guidance on the submission of written statements that are in response to the stated agenda for the planned meeting in question.

FOR FURTHER INFORMATION CONTACT: Jim Freeman, Advisory Committee Management Officer for the Department of Defense, 703-692-5952.

Dated: December 13, 2012.
Aaron Siegel,
Alternate OSD Federal Register Liaison Officer, Department of Defense.

[FR Doc. 2012-30430 Filed 12-17-12; 8:45 am]

BILLING CODE 5001-06-P